DEPARTMENT OF THE INTERIOR

National Park Service

[NPS-WASO-NRNHL-DTS#-26271; PPWOCRADI0, PCU00RP14.R50000]

National Register of Historic Places; Notification of Pending Nominations and Related Actions

AGENCY: National Park Service, Interior.

ACTION: Notice.

SUMMARY: The National Park Service is soliciting comments on the significance of properties nominated before August 11, 2018, for listing or related actions in the National Register of Historic Places.

DATES: Comments should be submitted by September 11, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 11, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Bradley County

Moro Bay Ferry, 670 AR 600, Moro Bay, SG100002944

Clay County

Clay County Courthouse, Eastern District, 151 S 2nd Ave., Piggott, SG100002945

Clay County Courthouse, Western District, 800 W 2nd St., Corning, SG100002946

Conway County

Bold Pilgrim Cemetery, End of Bold Pilgrim Rd., W of AR 9, Morrilton vicinity, SG100002947

Johnson County

Vorhees School (New Deal Recovery Efforts in Arkansas MPS), 415 N College Ave., Clarksville, MP100002948

Marion County

Johnson, William Jasper, House, N of jct. of Lakeshore Rd. & Honeysuckle Ave., Bull Shoals, SG100002949

Pulaski County

Block Realty Building, 723 W Markham St., Little Rock, SG100002950

Buffalo, Cecil M., Jr., House, 16324 Arch Street Pike., Little Rock, SG100002951

Gray, Thomas, House, 25 River Valley Rd., Little Rock, SG100002955

Sebastian County

Crow, Dr. Neil, Sr., House, 19 Berry Hill Rd., Fort Smith, SG100002956

CALIFORNIA

Contra Costa County

Martinez Grammar School Annex (Martinez, California MPS), 525 Henrietta St., Martinez, MP100002957

Los Angeles County

Canterbury Apartment Hotel, The, 1746 N Cherokee Ave., Los Angeles, SG100002958

DISTRICT OF COLUMBIA

District of Columbia

Kingman Park Historic District, Between Rosedale & D St., Maryland Ave. NE, 19th St. & Oklahoma Ave. NE, Washington, SG100002960

GEORGIA

Richmond County

Hull, Dr. Asbury and Martha, House, 2749 Hillcrest Ave., Augusta, SG100002961

KANSAS

Douglas County

Marion Springs School (Public Schools of Kansas MPS), 316 E 900 Rd., Baldwin City vicinity, MP100002963

Willow Springs Santa Fe Trail District (Santa Fe Trail MPS), N 550 & E 1100 Rds., Baldwin City vicinity, MP100002964

Franklin County

Appanoose Church of the Brethren and Cemetery, 492 Woodson & 196 N 1 Rds., Overbrook vicinity, SG100002965

Morris County

Dunlap Colored Cemetery, 2050 S 100 Rd., Dunlap vicinity, SG100002967

Riley County

Pioneer Log Cabin, 405 N 11th St., Manhattan, SG100002969

Saline County

St. John's Hospital, 139 N Penn Ave., Salina, SG100002970

Sedgwick County

Western Union Building, 154 N Topeka Ave., Wichita, SG100002971

Shawnee County

Casson Building, 603 SW Topeka Blvd., Topeka, SG100002972

NEW HAMPSHIRE

Coos County

Saint Anne Historic District, Bounded by Pleasant/Main, Church, School & Success Sts., Berlin, SG100002973

Rockingham County

Armstrong Memorial Building, 3 N Lowell Rd., Windham, SG100002974

WASHINGTON

King County

Mount Baker Park Historic District, Roughly bounded by 30th Ave. S, Lake Washington Blvd., 37th Ave. S, S College, S Court, S Hanford & S Byron Sts., Seattle, SG100002975

WISCONSIN

Dodge County

Neosho Village Hall, 115 S Schuyler St., Neosho, SG100002976

The following resource has been determined eligible for listing on the National Register of Historic Places:

COLORADO

Rio Blanco County

Meeker Historic District, Roughly bounded by Main, 4th & 8th Sts. & Park Ave., Meeker, SG100002306

A request for removal has been made for the following resource:

KANSAS

Rice County

Lyons High School (Public Schools of Kansas MPS), 401 S Douglas Ave., Lyons, OT05000556

Additional documentation has been received for the following resources:

ARKANSAS

Pulaski County

Governor's Mansion Historic District, Bounded by the Mansion grounds, 13th, Center, Gaines, and 18th Sts., Little Rock, AD78000620

Central High School Neighborhood Historic District, Roughly bounded by MLK Dr., Thayer Ave., W 12th St., and Roosevelt Rd., Little Rock, AD96000892

GEORGIA

Chatham County

Savannah Historic District, Bounded by E Broad, Gwinnett, and W Broad Sts. and the Savannah River, Savannah, AD66000277

Nomination submitted by Federal Preservation Officer:

The State Historic Preservation Officer reviewed the following nomination and responded to the Federal Preservation Officer within 45 days of receipt of the nomination and supports listing the property in the National Register of Historic Places.

CALIFORNIA

Marin County

Tocaloma Bridge, Old segment of Sir Francis Drake Blvd. across Lagunitas Cr., Tocaloma, SG100002959

Authority: Section 60.13 of 36 CFR part 60.

Dated: August 14, 2018.
Julie H. Ernstein,
Acting Chief, National Register of Historic Places/National Historic Landmarks Program and Deputy Keeper of the National Register of istoric Places.

[FR Doc. 2018-18460 Filed 8-24-18; 8:45 am]

BILLING CODE 4312-52-P